DEPARTMENT OF LABOR

Occupational Safety and Health Administration

[Docket No. ICR-1218-0200 (2003)]

Standard on Process Safety Management of Highly Hazardous Chemicals (PSM); Extension of the Office of Management and Budget's Approval of Information-Collection (Paperwork) Requirements

AGENCY: Occupational Safety and Health Administration (OSHA), Labor.

ACTION: Request for comment.

SUMMARY: OSHA request comment concerning its proposed extension of the information-collection requirements specified by its Standard on Process Safety Management of Highly Hazardous Chemicals (PSM) (29 CFR 1910.119). The Clean Air Act Amendments (CAAA) OF 1990 required the Occupational Safety and Health Administration (OSHA) to develop a standard on Process Safety Management of Highly Hazardous Chemicals (PSM) (i.e., “the Standard ”) containing certain minimum standards to prevent accidental releases of chemicals which could pose a threat to employees. The Standard, rather than setting specific engineering requirements, emphasizes the application of documented management controls. Using the controls, companies address the risk associated with handling or working near highly hazardous chemicals. Compliance with the standard is accomplished, therefore, by requiring the employer to do a number of things such a developing a written, comprehensive management program which integrates technologies, procedures and management practices, to update operating procedures and safe work practices, to evaluate safety history and policies of contractors, to conduct periodic evaluations, and to document employee training.

DATES: Submit written comments on or before January 28, 2003.

ADDRESSES: Submit written comments to the Docket Office, Docket No. ICR-1218-0200(2003), OSHA, U.S. Department of Labor, Room N-2625, Constitution Avenue, NW., Washington, DC 20210; telephone; (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the collections of information collection specified by the Standard on Process Safety Management of Highly Hazardous Chemicals (PSM) is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimized, collection instruments are understandable, and OSHA's estimate of the information-collection burden is correct.

The collections of information in the standard are necessary for implementation of the requirements of the standard. The information is used by employers to assure that process using highly hazardous chemicals with the potential of a catastrophic release are operated as safely as possible. The employer must consider all facets of a process, as well as the involvement of employees in that process. Processes are analyzed by employers so that they identify and control problems that could lead to a major release, fire or explosion. The failure of employers to collect the information will significantly impact OSHA's effort to control and reduce injuries and fatalities in workplaces that have the potential for highly hazardous chemical catastrophes.

The Standard specifies several paperwork requirements. The following sections describe the information collection requirements and who will use the information.

(A) Employee Participation (paragraph (c)). Paragraph 1910.119(c)(1) requires employers to develop a written plan describing the employee participation required by this paragraph. Paragraph (c)(3) requires that employers must provide employee access to process hazard analyses.

(B) Process Safety Information (paragraph (d)). Paragraph (d) requires employers to complete a compilation of written process safety information prior to conducting a process hazard analyses. The compilation of written process safety information, which includes the hazards of chemicals, the technology of the process and the equipment, is to enable the employer and employees involved in operating the process to identify and understand the hazards posed by processes involving highly hazardous chemicals.

(C) Process Hazard Analysis (paragraph (e)(1)). Paragraph (c)(1) requires the employer to perform an initial process hazard analysis on processes covered by the standard. The evaluation must be appropriate to the complexity of the process and must identify, evaluate, and control the hazards involved in the process.

(D) Resolution of Hazards (paragraphs (e)(4) and (e)(5)). Paragraph (e)(4) requires hazard analyses to be performed by a team with expertise in engineering and process operations and at least one employee and one member knowledgeable in the specific management process. Paragraph (e)(5) requires the employer to establish a system to promptly address the team's findings and recommendations; assure that the recommendations are resolved in a timely manner; develop a written schedule of when these actions are to be completed; document the resolution; and communicate the actions to affected operating, maintenance and other employees whose work assignments are in the process.

(E) Updating, Revalidating, and Retaining the Process Hazard Analysis (paragraphs (e)(6) and (e)(7)). Paragraph (e)(6) requires the employer to update and revalidate the process hazard analyses at least every five years. Paragraph (e)(7) requires the employer to retain process hazard analysis for each process covered by this section, as well as the documented resolution of recommendations described in paragraph (e)(5).

(F) Operating Procedures (paragraph (f)(1)). This provision requires the employer to develop and implement written operating procedures that provide clear instructions for safely conducting activities involved in each covered process.

(G) Training (Initial, Refresher, and Documentation) (paragraphs (g)(1), (g)(2), and (g)(3)). Paragraph (g)(1) requires employers to train employees operating dangerous process. Paragraph (g)(2) requires that the employer provide refresher training at least every three years. Paragraph (g)(3) requires the employer to prepare a record that contains the name of employee, the date of training, and the means used to verify that the employee understood the training.

(H) Contractors (paragraphs (h)(2)(ii), (iv), (vi) and (h)(3)(iii)). Paragraph (h)(2)(ii), requires employers, when selecting a contractor, to obtain and evaluate information regarding the contract employer's safety performance and programs. Paragraph (h)(2)(iv) requires the employer to periodically evaluate the performance of contract employers in fulfilling their obligations as specified in paragraph (h)(3) of this section. Paragraph (h)(2)(vi) requires the employer to maintain a contract employee injury and illness log related to the contractor's work in process areas. Paragraph (h)(3)(iii) requires the contract employer to document contract employees have been trained to perform covered activities safely.

(I) Pre-startup Safety Review (paragraph (i)). Paragraph (i) requires the employer to perform a pre-start-up safety review for new facilities and for modified facilities when the modification is significant enough to require a change in the process safety information.

(J) Written Procedures, Inspections and Testing (paragraphs (j)(2) and (j)(4)). Paragraph (j)(2) requires the employer to establish written procedures to maintain the on-going integrity of process equipment. Paragraph (j)(4) requires that employers perform inspections and tests on process equipment and that each inspection and test be documented (under (j)(4)(iv)). The documentation shall identify the date of the inspection or test, the name of the person who performed the inspection or test, the serial number or other identifier of the equipment on which the inspection or test was performed, a description of the inspection or test performed, and the results of the inspection or test.

(K) Hot Work Permit (paragraph (k)). Paragraph (k) requires the employer to issue a hot work permit for hot work operations conducted on or near a covered process. The permit shall indicate the date(s) authorized for hot work and identify the object on which hot work is to be performed. The permit must be kept on file until completion of the hot work operations.

(L) Management of Change (paragraph (l)). Paragraph (l) requires the employer to establish and implement written procedures to manage changes (except for “replacements in kind”) to process chemicals, technology, equipment, and procedures; and for changes to facilities that affect a covered process.

(M) Incident Investigation (paragraph (m)). Paragraph (m) requires the employer to investigate each incident which resulted in, or could reasonably have resulted in a catastrophic release of highly hazardous chemical in the workplace. An accident investigation is to be initiated as promptly as possible, but not later than 48 hours following the incident. Paragraph (m)(4) requires that the report be prepared at the conclusion of the investigation which includes, at a minimum, the date of the incident; the date the investigation began; a description of the incident; the factors that contributed to the incident; and any recommendations resulting from the investigation. Resolutions and corrective measures are required to be documented. Paragraph (m)(7) requires that incident investigation reports be retained for five years.

(N) Emergency Planning and Response (paragraph (n)). Paragraph (n) requires the employer to establish and implement an emergency action plan in accordance with the provisions of 29 CFR 1910.38(a). In addition, the emergency action plan shall include procedures for handling small releases. Employers covered under this standard may also be subject to the hazardous waste and emergency response provisions contained in 29 CFR 1910.120(a), (p), and (q).

(O) Compliance Audits (paragraph (o)). Under paragraph (o)(1), employers are required to certify that they have evaluated compliance with the provisions of this section at least every three years to verify that the procedures and practices developed under the standard are adequate and are being followed. Paragraph (o)(3) requires that a report of the findings of the audit be developed and paragraph (o)(5) requires that the last two reports be retained.

II. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection-of-information requirements specified by the Standard on Process Safety Management of Highly Hazardous Chemicals (PSM) (29 CFR 1910.119). The Agency will summarize the comments submitted in response to this notice, and will include this summary in its request to OMB to extend the approval of these information-collection requirements.

Type of Review: Extension of a currently-approved information-collection requirement.

Title: Process Safety Management of Highly Hazardous Chemicals (29 CFR 1910.119).

OMB Number: 1218-0200.

Affected Public: Business or other for-profit; Federal government.

Number of Respondents: 212,422.

Frequency of Recordkeeping: Varies depending upon the collection of information contained in the Standard.

Average Time per Response: Varies from five minutes (.08 hour) to generate, maintain and disclose training documentation to 2,454.4 hours to establish and implement a management of change program.

Total Annual Hours Requested: 51,298,797.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC., on November 25, 2002.
John L. Henshaw,
Assistant Secretary of Labor.

[FR Doc. 02-30301 Filed 11-27-02; 8:45 am]

BILLING CODE 4510-26-M